SUSQUEHANNA RIVER BASIN COMMISSION

Commission Meeting

AGENCY: Susquehanna River Basin Commission.

ACTION: Notice.

SUMMARY: The Susquehanna River Basin Commission will hold its regular business meeting on December 8, 2016, in Annapolis, Maryland. Details concerning the matters to be addressed at the business meeting are contained in the Supplementary Information section of this notice.

DATES: The meeting will be held on Thursday, December 8, 2016, at 9 a.m.

ADDRESSES: The meeting will be held at Loews Annapolis Hotel, Powerhouse—Point Lookout Room (Third Floor), 126 West Street, Annapolis, MD 21401.

FOR FURTHER INFORMATION CONTACT: Jason E. Oyler, General Counsel, telephone: (717) 238-0423, ext. 1312; fax: (717) 238-2436.

SUPPLEMENTARY INFORMATION: The business meeting will include actions or presentations on the following items: (1) Informational presentation of interest to the Lower Susquehanna Subbasin area; (2) resolution concerning FY2018 federal funding of the Groundwater and Streamflow Information Program; (3) ratification/approval of contracts/grants; (4) notice for Montage Mountain Resorts, LP project sponsor to appear and show cause before the Commission; (5) regulatory compliance matters for Panda Hummel Station LLC, Panda Liberty LLC, and Panda Patriot LLC; and (6) Regulatory Program projects.

Projects listed for Commission action are those that were the subject of a public hearing conducted by the Commission on November 3, 2016, and identified in the notice for such hearing, which was published in 81 FR 69182, October 5, 2016.

The public is invited to attend the Commission's business meeting. Comments on the Regulatory Program projects were subject to a deadline of November 14, 2016. Written comments pertaining to other items on the agenda at the business meeting may be mailed to the Susquehanna River Basin Commission, 4423 North Front Street, Harrisburg, Pennsylvania 17110-1788, or submitted electronically through http://www.srbc.net/pubinfo/publicparticipation.htm. Such comments are due to the Commission on or before December 2, 2016. Comments will not be accepted at the business meeting noticed herein.

Authority: Pub. L. 91-575, 84 Stat. 1509 et seq., 18 CFR parts 806, 807, and 808.

Dated: November 3, 2016.
Stephanie L. Richardson,
Secretary to the Commission.

[FR Doc. 2016-27006 Filed 11-8-16; 8:45 am]

BILLING CODE 7040-01-P